DEPARTMENT OF VETERANS AFFAIRS

[OMB Control No. 2900-0178]

Agency Information Collection Activity Under OMB Review: Monthly Certification of On-the-Job and Apprenticeship Training

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0178.

FOR FURTHER INFORMATION CONTACT: Danny S. Green at (202) 421-1354.

SUPPLEMENTARY INFORMATION:

Authority: 38 U.S.C. 3680(c).

Title: Monthly Certification of On-The-Job Training, VA Form 22-6553d and VA Form 22-6553d-1.

OMB Control Number: 2900-0178.

Type of Review: Revision of a currently approved collection.

Abstract: Schools and training establishments complete the form to report whether the trainee's number of hours worked and/or to report the trainee's date of termination. VA Form 22-6553d-1 is an identical printed copy of VA Form 22-6553d. VA Form 22-6553d-1 is used when the computer-generated version of VA Form 22-6553d is not available. VA uses the data collected to process a trainee's educational benefit claim.

An agency may not conduct or sponsor, and a person is not required to respond to a collection of information unless it displays a currently valid OMB control number. The Federal Register Notice with a 60-day comment period soliciting comments on this collection of information was published at 85 FR 39 on February 27, 2020, page 11454.

Affected Public: Private Sector.

Estimated Annual Burden: 5,693 hours.

Estimated Average Burden per Respondent: 10 minutes.

Frequency of Response: On occasion (9 responses per respondent annually).

Estimated Number of Respondents: 3,795 (34,155 responses).

By direction of the Secretary.
Danny S. Green,
VA PRA Clearance Officer, Office of Quality, Performance and Risk, Department of Veterans Affairs.

[FR Doc. 2020-11085 Filed 5-21-20; 8:45 am]

BILLING CODE 8320-01-P